COMMISSION ON CIVIL RIGHTS

Agenda and Notice of Public Meeting of the New Jersey Advisory Committee to the U.S. Commission on Civil Rights

Notice is hereby given, pursuant to the provisions of the rules and regulations of the U.S. Commission on Civil Rights (Commission) and the Federal Advisory Committee Act (FACA) that a planning meeting of the of the New Jersey Advisory Committee to the U.S. Commission on Civil Rights will convene at 10 a.m. on Wednesday, August 17, 2011 at the Legislative Annex, 125 West State Street, 1st Floor Annex, Committee Room 115, Trenton, New Jersey 08625. The purpose of the planning meeting is to review and discuss the draft report on services provided to persons with non-apparent disabilities who are incarcerated in New Jersey state prisons. The draft report was prepared by the subcommittee of the New Jersey Advisory Committee to the U.S. Commission on Civil Rights.

Members of the public are entitled to submit written comments; the comments must be received in the regional office by Friday, September 16, 2011. Comments may be mailed to the Eastern Regional Office, U.S. Commission on Civil Rights, 624 9th Street, NW., Suite 740, Washington, DC 20425, faxed to (202) 376-7548, or e-mailed to ero@usccr.gov. Persons wishing to e-mail their comments, or to present their comments verbally at the meeting, or who desire additional information should contact contact Ivy L. Davis, Director, Eastern Regional Office, at (202) 376-7533 (or for hearing impaired TDD 800-877-8339). Hearing-impaired persons who will attend the meeting and require the services of a sign language interpreter should contact the Regional Office at least ten (10) working days before the scheduled date of the meeting.

Records generated from this meeting may be inspected and reproduced at the Eastern Regional Office, as they become available, both before and after the meeting. Persons interested in the work of this advisory committee are advised to go to the Commission's Web site, http://www.usccr.gov, or to contact the Eastern Regional Office at the above e-mail or street address.

The meeting will be conducted pursuant to the rules and regulations of the Commission and FACA.

Dated in Washington, DC, July 29, 2011.
Peter Minarik,
Acting Chief, Regional Programs Coordination Unit.

[FR Doc. 2011-19668 Filed 8-2-11; 8:45 am]

BILLING CODE 6335-01-P